LEGAL SERVICES CORPORATION

Sunshine Act Meeting Notice

DATE AND TIME: The Legal Services Corporation's Board of Directors and its six committees will meet January 19-21, 2012. On Thursday, January 19, the first meeting will commence at 3:15 p.m., Pacific Standard Time, and the second meeting will commence immediately upon adjournment of the first. On Friday, January 20, the Promotion & Provision for the Delivery of Legal Services Committee meeting will commence at 10:35 a.m., Pacific Standard Time, and the Finance Committee meeting will commence immediately upon the conclusion of the Board's scheduled luncheon. The Governance & Performance Review Committee meeting will commence promptly upon adjournment of the Finance Committee meeting. On Saturday, January 21, the first meeting will commence at 8:30 a.m., Pacific Standard Time, and the second meeting will commence immediately upon adjournment of the first.

LOCATION: On Thursday, January 19, the committee meetings will be held at the Legal Aid Society of San Diego, 1764 San Diego Avenue—Suite 200, San Diego, CA 92110. On Friday, January 20, the Promotion & Provision for the Delivery of Legal Services Committee meeting will be held in the Crystal Ballroom of the U.S. Grant Hotel, 326 Broadway, San Diego CA 92101, and the remaining committee meetings for that day will be held in the Versailles Ballroom of the Westgate Hotel, 1055 Second Avenue, San Diego, CA 92101. On Saturday, January 21, the Institutional Advancement Committee meeting will be held in the Regency Room of the Westgate Hotel and the Board meeting will be held in the hotel's Versailles Ballroom.

PUBLIC OBSERVATION: Unless otherwise noted herein, the Board and all committee meetings will be open to public observation. Members of the public who are unable to attend in person but wish to listen to the public proceedings may do so by following the telephone call-in directions provided below but are asked to keep their telephones muted to eliminate background noises. From time to time, the presiding Chair may solicit comments from the public.

CALL-IN DIRECTIONS FOR OPEN SESSIONS: • Call toll-free number: 1-(866) 451-4981;

• When prompted, enter the following numeric pass code: 5907707348

• When connected to the call, please immediately “mute” your telephone.

* Please note that all times in this notice are in the Pacific Standard Time.

Meeting Schedule
| Time *
Thursday, January 19, 2012:
1. Audit Committee | 3:15 p.m.
2. Operations & Regulations Committee |
Friday, January 20, 2012:
1. Promotion & Provision for the Delivery of Legal Services Committee | 10:35 a.m.
2. Finance Committee |
3. Governance & Performance Review Committee |
Saturday, January 21, 2012:
1. Institutional Advancement Committee | 8:30 a.m.
2. Board of Directors |

STATUS OF MEETING: Open, except as noted below.

Board of Directors—Open, except that, upon a vote of the Board of Directors, a portion of the meeting may be closed to the public to hear briefings from management and LSC's Inspector General, to consider and act on the General Counsel's report on potential and pending litigation involving LSC, and to consider and act on the request of an officer of the Corporation for authorization to accept compensation for non-LSC work.**

** Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(6) and (10), and the corresponding provisions of the Legal Services Corporation's implementing regulations, 45 CFR 1622.5(e) and (h), will not be available for public inspection. A copy of the General Counsel's Certification that in his opinion the closing is authorized by law will be available upon request.

MATTERS TO BE CONSIDERED: Thursday, January 19, 2012

Audit Committee

Agenda

1. Approval of agenda.

2. Approval of minutes of the Committee's meeting of October 18, 2011.

3. Presentation of the Fiscal Year (FY) 2011 Annual Financial Audit:

• Ronald “Dutch” Merryman, Assistant Inspector General for Audits.

• Nancy Davis, WithumSmith+Brown.

4. Report on Program Quality Evaluations:

• Janet LaBella, Director of the Office of Program Performance.

5. Report on LSC's 403(b) plan performance.

6. Consider and act on revisions to the Audit Committee Charter:

• Mattie Cohan, Office of Legal Affairs.

7. Discussion of Committee members' self-evaluations for 2011 and the Committee's goals for 2012.

8. Public comment.

9. Consider and act on other business.

10. Consider and act on adjournment of meeting.

Closed Briefing

1. Communication by Corporate Auditor with those charged with governance under Statement on Auditing Standard 114:

• Jeffrey Schanz, Inspector General.

• Ronald “Dutch” Merryman, Assistant Inspector General for Audits.

• Nancy Davis, WithumSmith+Brown.

Operations & Regulations Committee

Agenda

1. Approval of agenda.

2. Approval of minutes of the Committee's meeting of October 17, 2011, and December 16, 2011.

3. Consider and act on potential initiation of rulemaking on enforcement mechanisms and sanctions:

• Mattie Cohan, Office of Legal Affairs.

• Laurie Tarantowicz, Office of Inspector General.

• Public Comment.

4. Discussion of Committee members' self-evaluations for 2011 and the Committee's goals for 2012.

5. Staff report on notice and comment, publication requirement of the LSC Act and Board review of LSC promulgations:

• Mattie Cohan, Office of Legal Affairs.

6. Public comment.

7. Consider and act on other business.

8. Consider and act on adjournment of meeting.

Friday, January 20, 2012

Promotion & Provision for the Delivery of Legal Services Committee

Agenda

1. Approval of Agenda.

2. Approval of minutes of the Committee's meeting of October 18, 2011.

3. Panel Discussion on Rural Legal Services Delivery:

• Moderator—Willie Abrams, Office of Program Performance.

4. Discussion of Committee members' self-evaluations for 2011 and the Committee's goals for 2012.

5. Public comment.

6. Consider and act on other business.

7. Consider and act on adjournment of meeting.

Finance Committee

Agenda

1. Approval of agenda.

2. Approval of minutes of the Committee's meeting of October 18, 2011.

3. Consider and act on Revised Consolidated Operating Budget for Fiscal Year (FY) 2011, Resolution 2012-001:

• Presentation by David Richardson, Treasurer & Comptroller.

4. Consider and act on Consolidated Operating Budget for FY 2012, Resolution 2012-002:

• Presentation by David Richardson, Treasurer & Comptroller.

5. Presentation on LSC's Financial Reports for the first two months of FY 2012:

• Presentation by David Richardson, Treasurer & Comptroller.

6. Staff report on submission of LSC's FY 2013 budget request:

• Presentation by John Constance, Director, Office of Government Relations & Public Affairs.

7. Discussion of Committee members' self-evaluations for 2011 and the Committee's goals for 2012.

8. Consider and act on a Resolution regarding selection of accounts and depositories for LSC funds.

9. Public comment.

10. Consider and act on other business.

11. Consider and act on adjournment of meeting.

Governance & Performance Review Committee

Agenda

1. Approval of agenda.

2. Approval of minutes of the Committee's meeting of October 16, 2011.

3. Committee Chairman's report on:

• Results of Board, Individual, and Committee Self-Evaluation process for 2011.

• Consider and act on report to full Board on Self-Evaluation results.

4. Staff report on progress on implementation of GAO recommendations:

• Report by John Constance, Director of Government Relations & Public Affairs.

5. Consider and act on a proposal for the evaluation of the President and other officers of the Corporation.

6. IG Evaluation discussion for 2011.

7. Consider and act on other business.

8. Public Comment.

9. Consider and act on motion to adjourn meeting.

Saturday, January 21, 2012

Institutional Advancement Committee

Agenda

1. Approval of agenda.

2. Approval of minutes of the Committee's open session meeting of July 20, 2011.

3. Approval of minutes of the Committee's closed session meeting of October 17, 2011.

4. Report on Public Welfare Foundation grant(s).

• Jim Sandman, President.

5. Discussion of Committee members' self-evaluations for 2011 and the Committee's goals for 2012.

6. Public comment.

7. Consider and act on other business.

8. Consider and act on adjournment of meeting.

Board of Directors

Agenda

Open Session

1. Pledge of Allegiance.

2. Approval of agenda.

3. Approval of Minutes of the Board's Open Session telephonic meeting of December 21, 2011.

4. Approval of Minutes of the Board's Open Session telephonic meeting of November 18, 2011.

5. Approval of Minutes of the Board's Open Session meeting of October 19, 2011.

6. Consider and act on nominations for Chairman of the Board of Directors.

7. Consider and act on nominations for Vice Chairman of the Board of Directors.

8. Consider and act on delegation to the Chairman of authority to make committee appointments, including appointment of committee Chairs.

9. Chairman's Report.

10. Members' Reports.

11. President's Report.

12. Inspector General's Report.

13. Interim report by Co-Chairs of the Pro Bono Task Force.

14. Consider and act on the report of the Promotion and Provision for the Delivery of Legal Services Committee.

15. Consider and act on the report of the Finance Committee.

16. Consider and act on the report of the Audit Committee.

17. Consider and act on the report of the Operations and Regulations Committee.

18. Consider and act on the report of the Governance and Performance Review Committee.

19. Consider and act on the report of the Institutional Advancement Committee.

20. Consider and act on the report of the Special Task Force on Fiscal Oversight.

21. Consider and act on a Resolution thanking the members of the Fiscal Oversight Task Force for their service on the Task Force.

22. Consider and act on a Resolution thanking Alice Dickerson for her service to LSC.

23. Consider and act on a Resolution thanking John Constance for his service to LSC.

24. Public comment.

25. Consider and act on other business.

26. Consider and act on whether to authorize an executive session of the Board to address items listed below, under Closed Session.

Closed Session

27. Approval of Minutes of the Board's Closed Session of October 18, 2011.

28. Briefing by Management.

29. Briefing by the Inspector General.

30. Consider and act on General Counsel's report on potential and pending litigation involving LSC.

31. Consider and act on the request of an officer of the Corporation for authorization to receive compensation for services from a source other than the Corporation.

32. Consider and act on motion to adjourn meeting.

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: January 11, 2012.
Victor M. Fortuno,
Vice President & General Counsel.

[FR Doc. 2012-754 Filed 1-11-12; 4:15 pm]

BILLING CODE 7050-01-P